FEDERAL COMMUNICATIONS COMMISSION

Sunshine Act Meeting; Open Commission Meeting Wednesday, February 20, 2013

February 13, 2013.

The Federal Communications Commission will hold an Open Meeting on the subjects listed below on Wednesday, February 14, 2013. The meeting is scheduled to commence at 10:30 a.m. in Room TW-C305, at 445 12th Street SW., Washington, DC.

Item No. | Bureau | Subject
1 | WIRELESS TELCOMMUNICATIONS | TITLE: Amendment of Parts 1, 2, 22, 24, 27, 90 and 95 of the Commission's rules to Improve Wirelss Coverage Through the Use of signal Boosters.
|  | SUMMARY: The Commission will consider a Report and Order to significantly enhance wirelss coverage for consumers, while protecting wireless networks from interference, by adopting new technical and operational requirements for signal boosters.
2 | OFFICE OF ENGINEERING & TECHNOLOGY | TITLE: Revision of Part 15 of the Commission's rules to Permit Unlicensed National Information Infrastructure (U-NII) Devices in the 5 Ghz Band.
|  | SUMMARY: The Commission will consider a Notice of Proposed Rulemaking to substantially increase the amount of unlicensed spectrum available to accelerate the growth and expansion of new Wi-Fi technology offering consumers faster speeds and less network congestion at Wi-Fi hot spots.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (tty).

Additional information concerning this meeting may be obtained from Meribeth McCarrick, Office of Media Relations, (202) 418-0500; TTY 1-888-835-5322. Audio/Video coverage of the meeting will be broadcast live with open captioning over the Internet from the FCC Live web page at www.fcc.gov/live.

For a fee this meeting can be viewed live over George Mason University's Capitol Connection. The Capitol Connection also will carry the meeting live via the Internet. To purchase these services call (703) 993-3100 or go to www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by email at FCC@BCPIWEB.com.

Federal Communications Commission.
Marlene H. Dortch,
Secretary.

[FR Doc. 2013-03874 Filed 2-19-13; 11:15 am]

BILLING CODE 6712-01-P